DEPARTMENT OF DEFENSE

Department of the Army, Corps of Engineers

Table Rock Lake Oversight Committee; Notice of Federal Advisory Committee Meeting; Cancellation AGENCY: Department of the Army, U.S. Army Corps of Engineers, DoD.

ACTION: Notice of federal advisory committee meeting; cancellation.

SUMMARY: On November 21, 2019, the Department of Defense (DoD) published a notice that announced the second meeting of the Table Rock Lake Oversight Committee, which was to take place on Thursday, January 23, 2020 from 8:00 a.m. to 5:00 p.m. DoD is publishing this notice to announce that this federal advisory committee meeting has been cancelled and will be re-scheduled at a later date, along with meetings three and four.

FOR FURTHER INFORMATION CONTACT: Mr. Kevin McDaniels, Designated Federal Officer (DFO) for the Committee, in writing at U.S. Army Corps of Engineers, Little Rock District, Operations Division, P.O. Box 867 Little Rock, Arkansas 72203-0867, by phone at 501-324-5556, or by email at CESWL-TRLOC-DFO@usace.army.mil.

SUPPLEMENTARY INFORMATION: Due to circumstances beyond control of the Department of Defense (DoD) and the Designated Federal Officer, the Table Rock Lake Oversight Committee was unable to provide public notification required by 41 CFR 102-3.150(a) concerning the cancellation of its previously noticed meeting of January 23, 2020. Accordingly, the Advisory Committee Management Officer for the Department of Defense, pursuant to 41 CFR 102-3.150(b), waives the 15-day notification requirement.

On November 21, 2019 (84 FR 64307), the Department of Defense (DoD) published a notice that announced a January 23, 2020 meeting of the Table Rock Lake Oversight Committee. DoD is publishing this notice to announce that this federal advisory committee meeting has been cancelled and will be re-scheduled at a later date, along with the subsequent meetings. The rescheduled meetings will be announced in the Federal Register.

Dated: January 23, 2020.
Pete G. Perez,
Director, Programs Directorate.

[FR Doc. 2020-02367 Filed 2-5-20; 8:45 am]

BILLING CODE 3720-58-P